COMMODITY FUTURES TRADING COMMISSION

17 CFR Part 41

RIN 3038-AB77

SECURITIES AND EXCHANGE COMMISSION

17 CFR Part 240

[Release No. 34-44475; File No. S7-11-01]

RIN 3235-AI13

Method for Determining Market Capitalization and Dollar Value of Average Daily Trading Volume; Application of the Definition of Narrow-Based Security Index

AGENCIES: Commodity Futures Trading Commission and Securities and Exchange Commission.

ACTION: Proposed rule; reopening and extension of comment period.

SUMMARY: The Commodity Futures Trading Commission (“CFTC”) and Securities and Exchange Commission (“SEC”) (collectively the “Commissions”) are extending the comment period for proposed Subparts A and B of Part 41 of the CFTC's regulations under the Commodity Exchange Act (“CEA”) and SEC Rules 3a55-1 through 3a55-3 under the Securities Exchange Act of 1934 (“Exchange Act”), contained in Release No. 34-44288 (May 10, 2001), 66 FR 27560 (May 17, 2001). The original comment period ended on June 18, 2001. The new deadline for submitting public comments is July 11, 2001.

DATES: Public comments are due on or before July 11, 2001.

ADDRESSES: Comments should be sent to both agencies at the addresses listed below.

CFTC: Comments should be sent to the Commodity Futures Trading Commission, Three Lafayette Centre, 1155 21st Street, N.W., Washington, DC 20581, Attention: Office of the Secretariat. Comments may be sent by facsimile transmission to (202) 418-5521, or by e-mail to secretary@cftc.gov. Reference should be made to “Narrow-Based Security Indexes.”

SEC: Please send three copies of your comment letter to Jonathan G. Katz, Secretary, Securities and Exchange Commission, 450 5th Street, NW., Washington, DC 20549-0609. Comments can also be sent electronically to the following e-mail address: rule-comments@sec.gov. Your comment letter should refer to File No. S7-11-01. If e-mail is used, include this file number on the subject line. Anyone can inspect and copy the comment letters in the Commission's Public Reference Room at 450 5th Street, NW., Washington, DC 20549-0102. Electronically submitted comments will be posted on the Commission's Internet web site (http://www.sec.gov). The SEC does not edit personal identifying information, such as names or e-mail addresses, from electronic submissions. Submit only the information you wish to make publicly available.

FOR FURTHER INFORMATION CONTACT:

CFTC: Elizabeth L.R. Fox, Acting Deputy General Counsel; Richard A. Shilts, Acting Director; or Thomas M. Leahy, Jr., Financial Instruments Unit Chief, Division of Economic Analysis, Commodity Futures Trading Commission, Three Lafayette Centre, 1155 21st Street, N.W., Washington, DC 20581. Telephone: (202) 418-5000. E-mail: (EFox@cftc.gov), (RShilts@cftc.gov), or (TLeahy @cftc.gov).

SEC: Nancy J. Sanow, Assistant Director, at (202) 942-0771; Ira L. Brandriss, Special Counsel, at (202) 942-0148, or Sapna C. Patel, Attorney, at (202) 942-0166, Office of Market Supervision, Division of Market Regulation, Securities and Exchange Commission, 450 Fifth Street, NW., Washington, DC 20549-1001.

SUPPLEMENTARY INFORMATION: On May 17, 2001, the Commissions published for public comment proposed Subparts A and B of Part 41 of the CFTC's regulations under the CEA and SEC Rules 3a55-1 through 3a55-3 under the Exchange Act. These proposed rules would implement new statutory provisions of the Commodity Futures Modernization Act of 2000 (“CFMA”) concerning the definition of “narrow-based security index.” The CFMA directed the Commissions jointly to specify by rule or regulation the method to be used to determine “dollar value of average daily trading volume” and “market capitalization” for purposes of the new definition of “narrow-based security index” in the CEA and the Exchange Act.

The proposing release established a deadline of June 18, 2001 for submitting public comments. The Commissions have received requests to extend the deadline. Therefore, the Commissions are extending the comment period to July 11, 2001 so that commenters will have adequate time to address the issues raised by the proposing release.

Dated: June 26, 2001.
By the Commodity Futures Trading Commission.
Jean A. Webb,
Secretary.
Dated: June 26, 2001.
By the Securities and Exchange Commission.
Jonathan G. Katz,
Secretary.

[FR Doc. 01-16501 Filed 6-29-01; 8:45 am]

BILLING CODE 6351-01-P; 8010-01-P